DEPARTMENT OF ENERGY

Federal Energy Regulatory Commission

[Project No. 13124-000]

Copper Valley Electric Association; Notice of Preliminary Permit Application Accepted for Filing and Soliciting Comment, Motions To Intervene, and Competing Applications

June 27, 2008.

On March 3, 2008, Copper Valley Electric Association filed an application, pursuant to section 4(f) of the Federal Power Act, proposing to study the feasibility of Allison Lake Project, located on Allison Lake and Allison Creek near Valdez, Alaska.

The applicant proposes three alternatives: Alternative No. 1 has a new intake/penstock to increase generation at the existing licensed Project No. 2742 by an annual generation of 20.5 gigawatt-hours (GWh); Alternative No. 2 has a new intake, tunnel and powerhouse with a capacity of 4 MW and an annual generation of 24.7 GWh; and Alternative No. 3 has a new siphon, penstock, and powerhouse with a capacity of 4 MW and an annual generation of 20.9 GWh. All three alternatives would use the existing Allison Lake and Alternative No. 1 would also use the Solomon Lake Dam and reservoir.

Applicant Contact: Mr. Robert A. Wilkinson, CEO, Copper Valley Electric Association, P.O. Box 45, Mile 187, Glenn Highway, Glennallen, AK 99588; phone: 907-822-3211. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13124) in the docket number field to access the document. For assistance, call toll-free 1-866-208-3372.

Kimberly D. Bose,
Secretary.

[FR Doc. E8-15217 Filed 7-3-08; 8:45 am]

BILLING CODE 6717-01-P